FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 010776-117.

Title: Asia North America Eastbound Rate Agreement.

Parties: A.P. Moller-Maersk Sealand, American President Lines, Ltd., APL Co. PTE Ltd., Hapag-Lloyd Container Linie GmbH, Kawasaki Kisen Kaisha, Ltd., Mitsui O.S.K. Lines, Ltd., Nippon Yusen Kaisha, Orient Overseas Container Line, Inc., P&O NedLloyd B.V., P&O NedLloyd Limited.

Synopsis: The subject modification would extend the current suspension of the agreement for an additional six months through May 1, 2001.

Agreement No.: 011695-002.

Title: CMA-CGM/Norasia Reciprocal Space Charter, Sailing and Cooperative Working Agreement.

Parties: Norasia Container Lines Limited (“Norasia”), CMA-CGM S.A.

Synopsis: The proposed amendment increases Norasia's allocation under the agreement from 4% to 30% due to Norasia's sale of four of its vessels. The parties have requested expedited review.

Agreement No.: 011725.

Title: APL/GWF Slot Exchange Agreement.

Parties: American President Lines, Ltd. (“APL”), APL Co. Pte. Ltd.(“APL”), Great White Fleet (U.S.) Ltd. (“GWF”).

Synopsis: The proposed agreement authorizes the exchange or sale of space between APL and GWF on each other's vessel operating in the trade between United States Atlantic and Gulf Coast ports, and U.S. inland and coastal points served via those ports, and ports and points in Guatemala, Honduras, El Salvador, Nicaragua, and Costa Rica.

Agreement No.: 011726.

Title: Maersk Sealand—New World Alliance/CMA-CGM Slot Charter Agreement.

Parties: A. P. Moller-Maersk Sealand, American President Lines, Ltd., APL Co. PTE Ltd., CMA-CGM S.A., Hyundai Merchant Marine Co., Ltd., Mitsui O.S.K. Lines, Ltd.

Synopsis: Under the proposed agreement, CMA-CGM will charter 600 slots each week on vessels operated by Maersk Sealand and the New World Alliance in the trade between U.S. East and Gulf Coast ports and ports in Europe.

Agreement No.: 011727.

Title: CMA-CGM/Norasia Pacific Slot Charter Agreement.

Parties: Norasia Container Lines Limited (“Norasia”), CMA-CGM S.A. (“CMA-CGM”).

Synopsis: The proposed agreement authorizes CMA-CGM to slot charter space to Norasia in the trade between Long Beach, CA and ports in China, South Korea, and Taiwan. The parties request expedited review.

Dated: September 29, 2000.
By Order of the Federal Maritime Commission
Theodore A. Zook,
Assistant Secretary.

[FR Doc. 00-25477 Filed 10-3-00; 8:45 am]

BILLING CODE 6730-01-P